DEPARTMENT OF COMMERCE

National Oceanic and Atmospheric Administration

RIN 0648-XY74

Marine Mammals; File No. 486-1790

AGENCY: National Marine Fisheries Service (NMFS), National Oceanic and Atmospheric Administration (NOAA), Commerce.

ACTION: Notice; issuance of permit amendment.

SUMMARY: Notice is hereby given that Brent Stewart, Hubbs-Sea World Research Institute, 2595 Ingraham Street, San Diego, California 92109 has been issued a minor amendment to Scientific Research Permit No. 486-1790-00.

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Mike Payne or Tammy Adams, (301)713-2289.

SUPPLEMENTARY INFORMATION: The requested amendment has been granted under the authority of the Marine Mammal Protection Act of 1972, as amended (16 U.S.C. 1361 et seq.) and the regulations governing the taking and importing of marine mammals (50 CFR part 216).

The original permit (No. 486-1790-00) was issued on January 4, 2006 and was valid through October 1, 2010. It authorizes capture of California sea lions (Zalophus californianus), northern elephant seals (Mirounga angustirostris), harbor seals (Phoca vitulina), and northern fur seals (Callorhinus ursinus) of any age on the southern California Channel Islands and surrounding waters for continuation of studies begun in 1978 on the demography, physiological ecology, foraging ecology, and behavior of pinnipeds in California. Marine mammals may be captured by a variety of techniques; physically or chemically immobilized; have blood, skin, blubber, muscle, urine, feces, and various skin and mucousal swabs collected; receive flipper tags; have radio transmitters attached; receive exams of musculoskeletal and cardiovascular systems, ears, nares, oral cavity, and eyes. The permit also allows for mortality of up to two animals of each species per year incidental to the research. The minor amendment (No. 486-1790-01) extends the duration of the permit through October 1, 2011, but does not change any other terms or conditions of the permit.

Dated: August 30, 2010.
P. Michael Payne,
Chief, Permits, Conservation and Education Division, Office of Protected Resources, National Marine Fisheries Service.

[FR Doc. 2010-22076 Filed 9-2-10; 8:45 am]

BILLING CODE 3510-22-S